SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before August 23, 2002.

ADDRESSES: Send all comments regarding whether this information collection is necessary for the proper performance of the function of the agency, whether the burden estimates are accurate, and if there are ways to minimize the estimated burden and enhance the quality of the collection, to Joseph F. Sobota, Assistant Advocate, Office of Advocacy, Small Business Administration, 409 3rd Street, SW., Suite 7800, Washington, DC 20416.

FOR FURTHER INFORMATION CONTACT: Joseph F. Sobota, Assistant Advocate, (202) 205-6952 or Curtis B. Rich, Management Analyst, (202) 205-7030.

SUPPLEMENTARY INFORMATION: Title: SBA Office of Advocacy Veterans Business Ownership Survey.

Form No: N/A.

Description of Respondents: Three groups will be surveyed: the general veteran population, veteran business owners, and veterans who have a service connected disability.

Annual Responses: 1,600.

Annual Burden: 400.

Jacqueline White,
Chief, Administrative Information Branch.

[FR Doc. 02-15882 Filed 6-21-02; 8:45 am]

BILLING CODE 8025-01-P